DEPARTMENT OF THE INTERIOR

Bureau of Land Management

[LLNVS01000. L51010000.ER0000. LVRWF1906190. 19X; MO#4500144064]

Notice of Availability of the Record of Decision for the Proposed Resource Management Plan Amendment and Final Environmental Impact Statement for the Gemini Solar Project in Clark County, NV

AGENCY: Bureau of Land Management, Interior.

ACTION: Notice of availability.

SUMMARY: In accordance with the National Environmental Policy Act of 1969, as amended (NEPA), and the Federal Land Policy and Management Act of 1976, as amended, the Department of Interior has prepared a Record of Decision (ROD) to authorize a right-of-way and amend the 1998 Las Vegas Resource Management Plan (RMP) for the Gemini Solar Project, and by this notice, is announcing the availability of the ROD. This constitutes the Final Decision of the Department of the Interior and is effective immediately. The ROD is not subject to administrative appeal.

DATES: The Secretary of the Department of Interior signed the ROD on May 8, 2020.

ADDRESSES: Copies of the ROD are available for public inspection at the Southern Nevada District Office, Bureau of Land Management, 4701 N Torrey Pines Drive, Las Vegas, Nevada 89130, or via the internet at the project's ePlanning page at https://go.usa.gov/xntTQ.

FOR FURTHER INFORMATION CONTACT: Nicholas Pay, Energy & Infrastructure Project Manager, telephone 702-515-5284; address 4701 North Torrey Pines Drive, Las Vegas, Nevada 89130-2301; email blm_nv_sndo_geminisolar@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The applicant, Solar Partners XI, LLC (Arevia) proposed to construct, operate, maintain and decommission a 690 megawatt photovoltaic solar electric generating facility and associated generation tie-line and access road facilities on approximately 7,100 acres of federal lands administered by the BLM approximately 33 miles northeast of Las Vegas and directly south of the Moapa River Indian Reservation in Clark County, Nevada.

On June 7, 2019, the Notice of Availability (NOA) of the Draft RMP Amendment and Draft Environmental Impact Statement (EIS) for the Gemini Solar Project published in the Federal Register (84 FR 26701), which provided for a 90-day public comment period. The BLM held two public meetings. The public comment period closed September 5, 2019. The BLM received 114 substantive letters containing 1,147 individual substantive comments during the 90-day public comment period. The comments focused on range of alternatives; Mojave desert tortoise; bighorn sheep and migratory birds; threecorner milkvetch, other sensitive plants and native vegetation communities; Old Spanish National Historic Trail; change to Visual Resource Management Class; impacts to recreation; drainage impacts and hydrologic changes, erosion, and dust; and tribal concern.

On December 27, 2019, a NOA of the Proposed RMP Amendment and Final EIS for the Gemini Solar Project published in the Federal Register (84 FR 71455), which initiated a 30-day public protest period and a 60-day Governor's consistency review. The BLM received five (5) protests on the proposed land use plan amendment, the BLM considered each protest letter in its decision. The Protest Resolution Report was completed on March 6, 2020 and is available for public inspection as the addresses listed above. On March 6, 2020, BLM received a written response from the Governor's office with no inconsistencies identified.

After environmental analysis, consideration of public comments, and application of pertinent Federal laws, it is the decision of the Department of the Interior to authorize the Gemini Solar Project in Clark County, Nevada, and amend the 1998 Las Vegas RMP by selecting the Hybrid Alternative, which was the agency's Preferred Alternative in the Proposed RMP Amendment and Final EIS. Approval of these decisions constitutes the final decision of the Department of the Interior and, in accordance with the regulations at 43 CFR 4.410(a)(3), is not subject to appeal under Departmental regulations at 43 CFR part 4. Any challenge to these decisions, including the BLM Authorized Officer's issuance of the right-of-way as approved by this decision, must be brought in the Federal district court.

Authority: 40 CFR 1506.6, 40 CFR 1506.10.

Jon K. Raby,
Nevada State Director.

[FR Doc. 2020-10922 Filed 5-20-20; 8:45 am]

BILLING CODE 4310-HC-P